DEPARTMENT OF TRANSPORTATION

Surface Transportation Board

[STB Finance Docket No. 34036 (Sub-No. 1)]

The Burlington Northern and Santa Fe Railway Company—Trackage Rights Exemption—Union Pacific Railroad Company

AGENCY: Surface Transportation Board.

ACTION: Notice of exemption.

SUMMARY: The Board, under 49 U.S.C. 10502, exempts the trackage rights described in STB Finance Docket No. 34036 ¹ to permit the trackage rights to expire on August 8, 2001, in accordance with the agreement of the parties.

¹ On April 24, 2001, BNSF filed a notice of exemption under the Board's class exemption procedures at 49 CFR 1180.2(d)(7). The notice covered the agreement by Union Pacific Railroad Company (UP) to grant temporary overhead trackage rights to The Burlington Northern and Santa Fe Railway Company over UP's rail line on the Black Butte and Valley Subdivisions between Klamath Falls, OR, in the vicinity of UP's milepost 428.7 and Binney Junction (Marysville), CA, in the vicinity of UP's milepost 141.9, a distance of 285 miles. See The Burlington Northern and Santa Fe Railway Company—Trackage Rights Exemption—Union Pacific Railroad Company, STB Finance Docket No. 34036 (STB served May 10, 2001). The trackage rights operations under the exemption became effective and were scheduled to be consummated on May 1, 2001.

DATES: This exemption is effective on July 6, 2001.

ADDRESSES: An original and 10 copies of all pleadings referring to STB Finance Docket No. 34036 (Sub-No. 1) must be filed with the Surface Transportation Board, Office of the Secretary, Case Control Unit, 1925 K Street, NW., Washington, DC 20423-0001. In addition, a copy of all pleadings must be served on petitioners' representatives (1) Yolanda Grimes Brown, The Burlington Northern and Santa Fe Railway Company, 2500 Lou Menk Drive, P.O. Box 961039, Fort Worth, TX 76161-0039, and (2) Robert Opal, Esq., Union Pacific Railroad Company, 1416 Dodge Street, Room 830, Omaha, NE 68179.

FOR FURTHER INFORMATION CONTACT: Joseph H. Dettmar (202) 565-1600. [TDD for the hearing impaired 1-800-877-8339.]

SUPPLEMENTARY INFORMATION: Additional information is contained in the Board's decision. To purchase a copy of the full decision, write to, call, or pick up in person from: Dā-To-Dā Office Solutions, Suite 210, 1925 K Street, NW., Washington, DC 20006. Telephone: (202) 293-7776. [Assistance for the hearing impaired is available through TDD services 1-800-877-8339.]

Board decisions and notices are available on our website at “WWW.STB.DOT.GOV.”

Decided: May 30, 2001.
By the Board, Chairman Morgan, Vice Chairman Clyburn, and Commissioner Burkes.
Vernon A. Williams,
Secretary.

[FR Doc. 01-14087 Filed 6-5-01; 8:45 am]

BILLING CODE 4915-00-P